DEPARTMENT OF ENERGY

Office of Science, Fusion Energy Sciences Advisory Committee

AGENCY: Department of Energy.

ACTION: Notice of open meeting.

SUMMARY: This notice announces a meeting of the Fusion Energy Sciences Advisory Committee. The Federal Advisory Committee Act (Public Law 92-463, 86 Stat. 770) requires that public notice of these meetings be announced in the Federal Register.

DATES: Thursday, April 7, 2005, 8 a.m. to 6 p.m., Friday, April 8, 2005, 8 a.m. to 12 p.m.

ADDRESSES: The Holiday Inn, 2 Montgomery Village Avenue, Gaithersburg, Maryland 20879.

FOR FURTHER INFORMATION CONTACT: Albert L. Opdenaker, Office of Fusion Energy Sciences, U.S. Department of Energy, 1000 Independence Avenue, SW., Washington, DC 20585-1290; telephone: 301-903-4927.

SUPPLEMENTARY INFORMATION: Purpose of the Meeting: The purposes of the meeting include hearing final reports from the Panel dealing with Program Priorities and the Committee of Visitors that examined the management processes involved with managing the Confinement and Basic Plasma Sciences programs. FESAC will also hear a report on the status of the ITER project in the U.S., a briefing on the International Tokamak Physics Activity, and a discussion of program performance measures. This notice is being published less than 15 days before the date of the meeting due to programmatic issues.

Tentative Agenda:

Thursday, April 7, 2005

• Office of Science Perspective.

• Office of Fusion Energy Sciences Perspective.

• Presentation by the Priority Panel on its findings and recommendations.

• Public Comments.

Friday, April 8, 2005

• ITER Project Status.

• Performance Measures Update.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, IE-190, Forrestal Building, 1000 Independence Avenue, SW., Washington, DC, between 9 a.m. and 4 p.m., Monday through Friday, except Federal holidays.

Issued in Washington, DC, on March 18, 2005.
Carol Matthews,
Acting Advisory Committee Officer.

[FR Doc. 05-5833 Filed 3-23-05; 8:45 am]

BILLING CODE 6450-01-P